DEPARTMENT OF DEFENSE

Office of the Secretary

[Docket ID DoD-2014-OS-0011]

Privacy Act of 1974; System of Records

AGENCY: Defense Health Agency, DoD.

ACTION: Notice to alter a System of Records.

SUMMARY: The Defense Health Agency proposes to alter an existing system of records, EDHA 22, entitled “Medical Situational Awareness in the Theater (MSAT)” in its inventory of record systems subject to the Privacy Act of 1974, as amended. This system provides information to medical commanders and their staff on personnel readiness status before and during deployment and sustainment, patient tracking from initial point of care and enroute to CONUS military treatment facilities, medical surveillance of illness, injury rates and trends for theater, syndromic, and chemical biological, radiological, and nuclear surveillance of individuals for early warning alerts.

DATES: This proposed action will be effective on February 27, 2014 unless comments are received which result in a contrary determination. Comments will be accepted on or before February 26, 2014.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Linda S. Thomas, Director, Defense Health Agency Privacy and Civil Liberties Office, Defense Health Agency Headquarters, 7700 Arlington Boulevard, Suite 5101, Falls Church, VA 22042-5101, or by phone at (703) 681-7500.

SUPPLEMENTARY INFORMATION: The Defense Health Agency notices for systems of records subject to the Privacy Act of 1974 (5 U.S.C. 552a), as amended, have been published in the Federal Register and are available from the address in FOR FURTHER INFORMATION CONTACT or at the Defense Privacy and Civil Liberties Office Web site http://dpclo.defense.gov/privacy/SORNs/component/osd/index.html. The proposed system report, as required by 5 U.S.C. 552a(r) of the Privacy Act of 1974, as amended, was submitted on October 31, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 22, 2014.
Aaron Siegel,
Alternate OSD Federal Register Liaison Officer, Department of Defense.

DHA 22

System name:

Medical Situational Awareness in the Theater (MSAT) (October 12, 2011, 76 FR 63287).

Changes

System ID:

Delete entry and replace with “EDHA 22.”

* * * * *

System location:

Delete entry and replace with “Force Health Protection & Readiness, Defense Health Agency Headquarters, 7700 Arlington Boulevard, Suite 5101, Falls Church, VA 22042-5101.”

* * * * *

Purpose(s):

Delete entry and replace with “To provide information to medical commanders and their staff on personnel readiness status before and during deployment and sustainment, patient tracking from initial point of care and enroute to CONUS military treatment facilities, medical surveillance of illnesses, injury rates and trends for theater, syndromic, and chemical, biological, radiological, and nuclear surveillance of individuals for early warning alerts.

To provide information that, when combined with medical intelligence, patient tracking, geospatial mapping, logistics, personnel, and other information, supports a single identical display of relevant information shared by more than one command to facilitate collaborative planning and to assist all echelons in achieving situational awareness, and for assisting the Combatant Command and Joint Task Force Surgeon in assessing risks, mitigating operational vulnerabilities, and allocating scarce combat resources during the planning and conduct of operations.”

Routine uses of records maintained in the system, including categories of users and the purposes of such uses:

Delete entry and replace with “In addition to those disclosures generally permitted under 5 U.S.C. 552a(b) of the Privacy Act of 1974, as amended, these records may specifically be disclosed outside the DoD as a routine use pursuant to 5 U.S.C. 552a(b)(3)as follows:

The DoD Blanket Routine Uses may apply to this system of records.

Note 1: This system of records contains individually identifiable health information. The DoD Health Information Privacy Regulation (DoD 6025.18-R) or any successor DoD issuances implementing the Health Insurance Portability and Accountability Act of 1996 (HIPAA) and 45 CFR parts 160 and 164, Health and Human Services, General Administrative Requirements and Security & Privacy, respectively, applies to most such health information. DoD 6025.18-R or a successor issuance may place additional procedural requirements on uses and disclosures of such information beyond those found in the Privacy Act of 1974, as amended, or mentioned in this system of records notice.

Note 2: Except as provided under 42 U.S.C. 290dd-2, records of identity, diagnosis, prognosis or treatment information of any patient maintained in connection with the performance of any program or activity relating to substance abuse education, prevention, training, treatment, rehabilitation, or research, which is conducted, regulated, or directly or indirectly assisted by a department or agency of the United States will be treated as confidential and disclosed only for the purposes and under the circumstances expressly authorized under 42 U.S.C. 290dd-2.”

* * * * *

Safeguards:

Delete entry and replace with “Electronic media, data and/or electronic records are maintained in a controlled area. The computer system is accessible only to authorized personnel. Entry into these areas is restricted to those personnel with a valid requirement and authorization to enter. Physical entry is restricted by the use of locks, passwords which are changed periodically, and administrative procedures.

The system provides two-factor authentication through user IDs/passwords. Access to personal information is restricted to those who require the data in the performance of their official duties. All personnel whose official duties require access to the information are trained in the proper safeguarding and use of the information.”

Retention and disposal:

Delete entry and replace with “Delete when the agency determines they are no longer needed for administrative, legal, audit, or other operational purposes. (N1-GRS-95-2 Item 4) (GRS 20 Item 4)”

System manager(s) and address:

Delete entry and replace with “Product Manager, MSAT, Defense Health Clinical Systems, Deployment & Readiness Systems Program Management Office, Skyline 6, Suite 817, 5109 Leesburg Pike, Falls Church, VA 22041-3226.”

Notification procedure:

Delete entry and replace with “Individuals seeking to determine whether information about themselves is contained in this system of records should address written inquiries to the Chief, Freedom of Information Act (FOIA) and Privacy Act Service Center, Defense Health Agency Privacy and Civil Liberties Office, Defense Health Agency Headquarters, 7700 Arlington Boulevard, Suite 5101, Falls Church, VA 22042-5101.

Requests should contain the individual's full name, SSN and/or DoD ID Number, and signature.”

Record access procedures:

Delete entry and replace with “Individuals seeking access to information about themselves contained in this system of records should address inquires to the Chief, FOIA and Privacy Act Service Center, Defense Health Agency Privacy and Civil Liberties Office, Defense Health Agency Headquarters, 7700 Arlington Boulevard, Suite 5101, Falls Church, VA 22042-5101.

Requests should contain the individual's full name, SSN and/or DoD ID Number, and signature.”

Contesting record procedures:

Delete entry and replace with “The Office of the Secretary of Defense (OSD) rules for accessing records, for contesting contents and appealing initial agency determinations are published in OSD Administrative Instruction 81, 32 CFR Part 311, or may be obtained from the system manager.”

* * * * *

[FR Doc. 2014-01444 Filed 1-24-14; 8:45 am]

BILLING CODE 5001-06-P